DEPARTMENT OF THE TREASURY

United States Mint

Notification of Pricing for United States Mint 2009 First Spouse Bronze Medal and 2009 First Spouse Bronze Medal Set

ACTION: Notification of Pricing for United States Mint 2009 First Spouse Bronze Medal and 2009 First Spouse Bronze Medal Set.

SUMMARY: The United States Mint is announcing prices for the 2009 First Spouse Bronze Medal and the 2009 First Spouse Bronze Medal Set.

2009 First Spouse Bronze Medals will be priced at $3.50 each. This year, the United States Mint is releasing five First Spouse Bronze Medals featuring Anna Harrison, Letitia Tyler, Julia Tyler, Sarah Polk, and Margaret Taylor. The 2009 First Spouse Bronze Medal Set will be priced at $15.95 and contains all five 2009 First Spouse Bronze Medals.

The first medal in the 2009 series, the Anna Harrison First Spouse Bronze Medal, will be available for sale on March 19, 2009.

FOR FURTHER INFORMATION CONTACT: B. B. Craig, Associate Director for Sales and Marketing, United States Mint, 801 9th Street, NW., Washington, DC 20220; or call 202-354-7500.

Authority: 31 U.S.C. 5111, 5112 & 9701.

Dated: March 23, 2009.
Edmund C. Moy,
Director, United States Mint.

[FR Doc. E9-6965 Filed 3-27-09; 8:45 am]

BILLING CODE 4810-02-P